DEPARTMENT OF HOMELAND SECURITY

Coast Guard

[Docket No. USCG-2012-0091]

National Offshore Safety Advisory Committee

AGENCY: United States Coast Guard, Department of Homeland Security.

ACTION: Committee Management; Notice of Federal Advisory Committee Meetings.

SUMMARY: The National Offshore Safety Advisory Committee (NOSAC) will meet on April 11 and 12, 2012, in New Orleans, Louisiana to discuss various issues related to safety of operations and other matters affecting the oil and gas offshore industry. These meetings are open to the public.

DATES: NOSAC will meet Wednesday, April 11, 2012 from 12 p.m. to 5 p.m. and Thursday, April 12, 2012, from 8:30 a.m. to 5 p.m. Three subcommittees will meet the afternoon of April 11. Please note that the meetings may close early if the committee has completed its business or be extended based on the level of public comments.

ADDRESSES: The meetings will be held at the Renaissance New Orleans Arts Hotel, 700 Tchoupitoulas Street, New Orleans, Louisiana 70130, http://www.marriott.com/hotels/travel/msydt-renaissance-new-orleans-arts-hotel/. There are three breakout rooms reserved for the afternoon on April 11. The April 12 meeting will also be held at Renaissance New Orleans Arts Hotel, in the Patrons Room.

For information on facilities or services for individuals with disabilities or to request special assistance at the meeting, contact the person listed in FOR FURTHER INFORMATION CONTACT as soon as possible.

To facilitate public participation, we are inviting public comment on the issues to be considered by the committee as listed in the “AGENDA” section below. Comments must be submitted in writing no later than April 1, 2012, and must be identified by USCG-2012-0091 and may be submitted by one of the following methods:

• Federal eRulemaking Portal: http://www.regulations.gov. Follow the instructions for submitting comments.

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov.

A public comment period will be held during the meeting on April 12, 2012, and speakers are requested to limit their comments to 3 minutes. Please note that the public comment period may end before the time indicated, following the last call for comments. Contact the individual listed below to register as a speaker.

FOR FURTHER INFORMATION CONTACT: Commander Rob Smith, Designated Federal Officer of NOSAC, Commandant (CG-5222), U.S. Coast Guard, 2100 Second Street SW., Stop 7126, Washington, DC 20593-0001 or Mr. Kevin Pekarek, Alternate Designated Federal Officer of NOSAC, Commandant (CG-5222), U.S. Coast Guard, 2100 Second Street SW., Stop 7126, Washington, DC 20593-0001; telephone (202) 372-1386, fax (202) 372-1926. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). The National Offshore Safety Advisory Committee (NOSAC) provides advice and recommendations to the Department of Homeland Security on matters and actions concerning activities directly involved with or in support of the exploration of offshore mineral and energy resources insofar as they relate to matters within U.S. Coast Guard jurisdiction.

Agenda

Day 1

NOSAC's three subcommittees will meet on April 11, 2012 between 12 p.m. and 5 p.m., to discuss its ongoing work. Times for these meetings are as follows: (1) Standards for Dynamic Positioning (DP) Operating Personnel (12 p.m. to 2:30 p.m.); (2) Medical Evacuation of Injured Divers (2 p.m. to 4 p.m.); and (3) Review of the Mississippi Canyon Incident Reports stemming from the Deepwater Horizon casualty event (2:30 p.m. to 5 p.m.).

Day 2

The NOSAC will meet on April 12, 2012 to review and discuss reports and recommendations received from the three subcommittees from their deliberations on April 11. The Committee will then use this information to formulate recommendations to the agency. The meeting will be open for public comment at the end of the day, see Agenda item (17).

A complete agenda for April 12th is as follows:

(1) Roll call of committee members and determination of a quorum.

(2) Approval of minutes from the February 15, 2012, meeting.

(3) Committee Administration.

The swearing in of new members from fiscal year 2009, 2010 and 2011 (if seated) slates of candidates.

(4) Welcoming comments from Eighth District Commander; Director of Commercial Regulations and Standards (CG-52); and Commander, Sector New Orleans.

(5) Presentation and discussion of reports and recommendations from the subcommittees and subsequent actions on:

(a) Standards for DP Operating Personnel.

(b) Medical Evacuation of Injured Divers.

(c) Mississippi Canyon Incident Reports.

(6) An update and discussion on recent U.S. Coast Guard regulations and Federal Register notices that affect the offshore industry.

(7) Offshore Operators Committee (OOC) update regarding medical evacuations from the Outer Continental Shelf (OCS).

(8) Present a capsulation of the industry comments received from the Mobile Offshore Drilling Unit Guidance Policy, Notice of Availability, request for comments and public meeting published in the Federal Register December 29, 2011 (76 FR 81957), docket No. USCG-2011-1106; and discuss a way forward to ensuring these vital systems are appropriately maintained and tested.

(9) U.S. Coast Guard National Center of Expertise (NCOE) Outer Continental Shelf Inspections will lead discussions on where and how can the USCG improve on training.

(10) Update from the Bureau of Safety and Environmental Enforcement (BSEE) concerning the status of their Deepwater Horizon Investigation Recommendations.

(11) Updates on International Maritime Organization (IMO) activities of interest to the OCS community.

(12) Statistical discussion on commercial diving casualties and analysis of OCS casualties.

(13) Update on alternatives and enforcement policy concerning the Notice of Arrival on the Outer Continental Shelf rulemaking, published in the Federal Register January 13, 2011 (76 FR 2254).

(14) Discussion on the state of the industry: Well Control Training and current issues to be resolved to improve training for persons with Well Control responsibilities.

(15) Task Statement discussion of Safety and Environmental Management System: A joint regulatory effort between the U.S. Coast Guard and BSEE.

(16) A progress report from the U.S. Coast Guard on the last 5 years of NOSAC's submitted final reports and the disposition/actions the U.S. Coast Guard has taken regarding these reports.

(17) Period for Public comment.

(18) Adjournment of meeting.

A copy of each report is available at the https://www.fido.gov Web site or by contacting Kevin Y. Pekarek. Use “code 68” to identify NOSAC when accessing this material. Once you have accessed the Committee page, click on the meetings tab and then the “View” button for the meeting dated April 12, 2012, to access the information for this meeting. Minutes will be available approximately 30 days after this meeting. Both minutes and documents applicable for this meeting can also be found at an alternative site using the following Web address: https://homeport.uscg.mil and use these key strokes: Missions>Port and Waterways>Safety Advisory Committee>NOSAC and then use the event key.

The meeting will be recorded by a court reporter. A transcript of the meeting and any material presented at the meeting will be made available through the https://www.fido.gov Web site.

The committee will review the information presented on each issue, deliberate on any recommendations presented in the subcommittees' reports, and formulate recommendations for the Department's consideration.

The committee will also receive tasking from CDR Rob Smith, Designated Federal Officer, on one proposed task statements: Safety and Environmental Management System and to make recommendations to the U.S. Coast Guard on same.

Dated: March 15, 2012.
J.G. Lantz,
Director of Commercial Regulations and Standards.

[FR Doc. 2012-7126 Filed 3-23-12; 8:45 am]

BILLING CODE 9110-04-P